DEPARTMENT OF HEALTH AND HUMAN SERVICES

Health Resources and Services Administration

Healthy Tomorrows Partnership for Children Program

AGENCY: Health Resources and Services Administration (HRSA), Department of Health and Human Services (HHS).

ACTION: Notice of a non-competitive one-year extension with funds for the National Healthy Tomorrows Technical Assistance Resource Center (U50).

SUMMARY: The Health Resources and Services Administration (HRSA) will be issuing a non-competitive one-year extension with funds for the National Healthy Tomorrows Technical Assistance Resource Center at the American Academy of Pediatrics (AAP). Up to $176,855 will be awarded over a one-year extended project period. The National Healthy Tomorrows Technical Assistance Resource Center provides support for the activities of the Healthy Tomorrows Partnership for Children Program (HTPCP), community-based grants that address priority issues determined by the community. Through a cooperative agreement, the Resource Center also offers consultation to HTPCP program participants to ensure successful implementation and sustainability of community-based initiatives; facilitates involvement of local partners such as pediatricians, State/local AAP chapters, State/local maternal and child health agencies, and other private sector partners in HTPCP projects to promote successful implementation of community-based maternal and child health initiatives; and conducts a national evaluation of HTPCP projects that assesses critical factors contributing to program sustainability, effectiveness and impact of community-based projects post HTPCP funding, and the ability of projects to develop meaningful evaluation and sustainability plans. A 2005 national evaluation found that 80 percent of HTPCP projects are fully or partially sustained 5 years post-Federal funding. The proposed extension with funds will allow the Maternal and Child Health Bureau (MCHB) to align the National Healthy Tomorrows Technical Assistance Resource Center with the National Center for Medical Home Implementation.

SUPPLEMENTARY INFORMATION: Recipient of record and intended award amount is:

Organization name | Cooperative agreement number | State | FY2011 Authorized funding level | FY2012 Estimated funding level
The American Academy of Pediatrics (AAP) | U50MC07618 | IL | $176,855 | $176,855

Amount of the Award: Up to $176,855 for one recipient over a one-year project period.

CFDA Number: 93.110.

Current Project Period: 9/1/2011 through 8/31/2012.

Period of Supplemental Funding: 9/1/2012 through 8/31/2013.

Authority: Title V of the Social Security Act, Section 501(a)(2), (42 U.S.C. 701 (a)(2)).

Justification

Over 75 percent of Healthy Tomorrows projects are involved in case management/care coordination or establishing a medical home in underserved and vulnerable communities. HTPCP has long encouraged Healthy Tomorrows projects involved in case management/care coordination or medical home to adopt the medical home model, so the combination of these investments achieves efficiencies. The National Healthy Tomorrows Technical Assistance Resource Center provides resources to grantees interested in medical home implementation, but has limited capacity to offer detailed technical assistance to grantees assessing the benefits and challenges of implementing a meaningful medical home in communities with finite resources. A strategic partnership with the National Center for Medical Home Implementation would provide the National Healthy Tomorrows Technical Assistance Resource Center with the capacity, capability, and efficiency to foster effective examples of medical home in underserved and vulnerable communities.

During the one-year extension period, MCHB will hold discussions with the project officers of the two resource centers to develop a plan to incorporate the goals and objectives of the National Healthy Tomorrows Technical Assistance Resource Center into the FY 2013 competitive guidance for the National Center for Medical Home Implementation. This partnership will strengthen and advance the medical home model in small, community-driven projects that strive to increase access to direct services for pregnant women, infants, children and youth and promote prevention initiatives. A one-year extension will also ensure that there is no disruption in the provision of technical assistance (via site visits), training and evaluation of Healthy Tomorrows grantees as MCHB plans for this consolidation.

FOR FURTHER INFORMATION CONTACT: Madhavi Reddy, MSPH, Maternal and Child Health Bureau, Health Resources and Services Administration, 5600 Fishers Lane, Room 18A-55, Rockville, Maryland 20857; email mreddy@hrsa.gov.

Dated: April 25, 2012.
Mary K. Wakefield,
Administrator.

[FR Doc. 2012-10507 Filed 5-1-12; 8:45 am]

BILLING CODE 4165-15-P